ENVIRONMENTAL PROTECTION AGENCY

40 CFR Parts 52 and 81

[IN148-1b; FRL-7436-3]

Redesignation and Approval and Promulgation of Indiana Implementation Plans

AGENCY: Environmental Protection Agency (EPA).

ACTION: Proposed rule.

SUMMARY: EPA is proposing to redesignate Lake County, Indiana, to attainment for particulate matter with a nominal aerodynamic diameter of 10 microns or less (PM10). EPA also proposes to approve Indiana's plan for continuing to attain the PM10 standards.

DATES: Written comments on this proposed rule must arrive on or before February 10, 2003.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: John Summerhays, Regulation Development Section, Air Programs Branch (AR-18J), U.S. Environmental Protection Agency, Region 5, 77 West Jackson Boulevard, Chicago, Illinois 60604, summerhays.john@epa.gov, (312) 886-6067.

SUPPLEMENTARY INFORMATION: On September 25, 2002, Indiana requested that EPA redesignate Lake County from nonattainment to attainment for PM10. The criteria for redesignations from nonattainment to attainment are in section 107(d)(3)(E) of the Clean Air Act. EPA proposes to conclude that (i) Lake County has attained the PM10 air quality standards, (ii) EPA has fully approved the applicable State Implementation Plan (SIP) under section 110(k) of the Act, (iii) the improvement in air quality in the area is due to permanent and enforceable emission reductions, (iv) the maintenance plan for the area satisfies section 175A of the Act, and (v) the state has met all requirements applicable to the area under section 110 and part D of the Act. Based on these findings, EPA proposes to approve Indiana's maintenance plan and redesignate Lake County, Indiana, to attainment for PM10.

For additional information see the direct final rule published in the rules section of this Federal Register.

List of Subjects

40 CFR Part 52

Environmental protection, Air pollution control, Incorporation by reference, Intergovermental relations, Particulate matter, Reporting and recordkeeping requirements.

40 CFR Part 81

Air pollution control, National parks, Wilderness areas.

Authority: 42 U.S.C. 7401 et seq.

Dated: December 23, 2002.
David A. Ullrich,
Acting Regional Administrator, Region 5.

[FR Doc. 03-283 Filed 1-9-03; 8:45 am]

BILLING CODE 6560-50-P